DEPARTMENT OF HEALTH AND HUMAN SERVICES

Health Resources and Services Administration

Availability of Additional HRSA Competitive Grants

AGENCY: Health Resources and Services Administration, HHS.

ACTION: Notice of availability of funds.

SUMMARY: The Health Resources and Services Administration (HRSA) announces the availability of funds for several HRSA programs. This Notice lists several programs that are announcing competitions for fiscal year (FY) 2000 funds but were not published in the Fall 1999 HRSA Preview.

This Notice includes funding for HRSA discretionary authorities and programs as follows: (1) Pediatric Emergency Department Research Network, Maternal and Child Health Bureau (MCHB); (2) Early Postpartum Discharge Data, MCHB; (3) Partnership for State Title V MCH Leadership Community Cooperative Agreement (MCHB); and (4) Special Projects of National Significance (Border Health Initiative), HIV/AIDS Bureau.

These programs were not published in the Fall 1999 HRSA Preview and will only appear in the Federal Register and on the HRSA Home Page at: http://www.hrsa.dhhs.gov/. The next edition of the HRSA Preview is planned to be published in mid-2000. The purpose of the HRSA Preview is to provide the general public with a single source of program and application information related to the Agency's competitive grant offerings. The HRSA Preview is designed to replace multiple Federal Register notices which traditionally advertised the availability of HRSA's discretionary funds for its various programs.

Dated: February 11, 2000.
Claude Earl Fox,
Administrator.

How To Obtain Further Information

You can download this Notice in Adobe Acrobat format (.pdf) from HRSA's web site at http://www.hrsa.dhhs.gov/.

To Obtain an Application Kit

It is recommended that you read the introductory materials, terminology section, and individual program category descriptions to fully assess your eligibility for grants before requesting kits. As a general rule, no more than one kit per category will be mailed to applicants. Upon review of the program descriptions, please determine which category or categories of application kit(s) you wish to receive and call 1-877-477-2123 to register on the specific mailing list. Application kits are generally available 60 days prior to application deadline. If kits are already available, they will be mailed immediately.

Also, you can register on-line to be sent specific grant application materials by following the instructions on the web page or accessing http://www.hrsa.gov/g—order3.htm directly. Your mailing information will be added to our database and material will be sent to you as it becomes available.

Grant Terminology

Application Deadlines

Applications will be considered “on time” if they are either received on or before the established deadline date or postmarked on or before the deadline date given in the program announcement or in the application materials.

Authorizations

The citations of provisions of the laws authorizing the various programs are provided immediately preceding groupings of program categories.

CFDA Number

Applicants must use the CFDA number when requesting application materials. The Catalog of Federal Domestic Assistance (CFDA) is a Governmentwide compendium of Federal programs, projects, services, and activities which provide assistance. Programs listed therein are given a CFDA Number.

Cooperative Agreement

A financial assistance mechanism (grant) used when substantial Federal programmatic involvement with the recipient during performance is anticipated by the Agency.

Eligibility

Authorizing legislation and programmatic regulations specify eligibility for individual grant programs. In general, assistance is provided to nonprofit organizations and institutions, State and local governments and their agencies, and occasionally to individuals. For-profit organizations are eligible to receive awards under financial assistance programs unless specifically excluded by legislation.

Estimated Amount of Competition

The funding level listed is provided for planning purposes and is subject to the availability of funds or congressional action.

Funding Priorities and/or Preferences

Special priorities or preferences are those which the individual programs have identified for the funding cycle. Some programs give preference to organizations which have specific capabilities such as telemedicine networking or established relationships with managed care organizations. Preference also may be given to achieve an equitable geographic distribution and other reasons to increase the effectiveness of the programs.

Key Offices

The Grants Management Office serves as the focal point for grants policy, budgetary, and business matters. The program office contact is provided for questions specific to the project activities of the programs and program objectives.

Matching Requirements

Several HRSA programs require a matching amount, or percentage of the total project support, to come from sources other than Federal funds. Matching requirements are generally mandated in the authorizing legislation for specific categories. Also, matching requirements may be administratively required by the awarding office. Such requirements are set forth in the application kit.

Project Period/Budget Period

The project period is the total time for which support of a discretionary project has been programmatically approved. The project period consists of one or more budget periods, each generally of one year duration. Continuation of any project from one budget period to the next is subject to satisfactory performance, availability of funds, and program priorities.

Review Criteria

The following are generic review criteria applicable to HRSA programs:

(1) That the estimated cost to the Government of the project is reasonable considering the anticipated results.

(2) That project personnel or prospective fellows are well qualified by training and/or experience for the support sought, and the applicant organization or the organization to provide training to a fellow has adequate facilities and manpower.

(3) That, insofar as practical, the proposed activities (scientific or other), if well executed, are capable of attaining project objectives.

(4) That the project objectives are capable of achieving the specific program objectives defined in the program announcement and the proposed results are measurable.

(5) That the method for evaluating proposed results includes criteria for determining the extent to which the program has achieved its stated objectives and the extent to which the accomplishment of objectives can be attributed to the program.

(6) That, in so far as practical, the proposed activities, when accomplished, are replicable, national in scope and include plans for broad dissemination.

The specific review criteria used to review and rank applications are included in the individual guidance material provided with the application kits. Applicants should pay strict attention to addressing these criteria as they are the basis upon which their applications will be judged.

Technical Assistance

A contact person is listed for each program and his/her e-mail address and telephone number provided. Some programs may have scheduled workshops and conference calls. If you have questions concerning individual programs or the availability of technical assistance, please contact the person listed. Also check your application materials and the HRSA web site at http://www.hrsa.dhhs.gov/ for the latest technical assistance information.

Frequently Asked Questions

1. HRSA lists many telephone numbers and e-mail addresses. Whom do I phone or e-mail and when?

Phone 1-877-477-2123 (1-877-HRSA-123) to register for application kits. You must know the program's CFDA number and title.

If, before you register, you want to know more about the program, an e-mail/phone contact is listed. This contact can provide information concerning the specific program's purpose, scope and goals, and eligibility criteria. You will usually be encouraged to request the application kit so that you will have clear, comprehensive and accurate information available to you. The application kit lists telephone numbers for a program expert and a grants management specialist who will provide technical assistance concerning your specific program, if you are unable to find the information within the materials provided.

2. The dates listed in the Federal Register notice and the dates in the application kit do not agree. How do I know which is correct?

First, register at 1-877-477-2123 (1-877-HRSA-123) for each program that you are interested in as shown in the Notice.

Notice dates for application kit availability and application receipt deadline are based upon the best known information at the time of publication. Occasionally, the grant cycle does not begin as projected and dates must be adjusted. The deadline date stated in your application kit is most likely to be correct. If the application kit has been made available and subsequently the date changes, notification of the change will be mailed to known recipients of the application kit. Therefore, if you are registered at 1-877-477-2123 (1-877-HRSA-123), you will receive the most current information.

3. Are programs announced in the Federal Register notice ever canceled?

Infrequently, programs announced may be withdrawn from competition. If this occurs, a cancellation notice will be provided at the HRSA Homepage at http:Hwww.hrsa.dhhs.gov/.

If you still have unanswered questions, please contact John Gallicchio or Jeanne Conley of the HRSA Grants Policy Branch at 301-443-6507 (jgallicchio@hrsa.gov or jconley@hrsa.gov).

Maternal and Child Health Bureau (MCHB)

Grants Management Office: 301-443-1440.

The MCHB announces the following three grant programs:

1. Pediatric Emergency Department Research Network (MCHB)

Authorization: Section 501 of the Social Security Act, 42 USC 701.

Purpose

The purpose of this program is to support the development of an infrastructure for a multi-center pediatric emergency department network to facilitate data collection on management of pediatric emergencies.

Eligibility: 42 CFR Part 51a.3.

Funding Priorities and/or Preferences: N/A.

Review Criteria

Final criteria are included in the application kit.

Estimated Amount of This Competition: $350,000.

Estimated Number of Awards: 1.

Estimated Project Period: 3 to 4 years.

Application Availability: 5/1/00.

To Obtain This Application Kit

CFDA Number: 93.110RS.

Call for Application Kit: 1-877-477-2123 (1-877-HRSA-123).

Application Deadline: 6/26/00.

Projected Award Date: 9/1/00.

The first budget period is expected to be ten months; subsequent budget periods will be 12 months.

Contact Person: Maria Baldi 301 443-6192 e-mail: mbaldi@hrsa.gov.

2. Early Postpartum Discharge Research Agenda (MCHB)

Authorization: Section 501 of the Social Security Act, 42 USC 701.

Purpose

The purpose of this grant is to build consensus on an optimal research agenda to guide practice and policy related to early postpartum discharge, and to work with the Secretary's Advisory Committee on Infant Mortality to produce the reports and conduct the research agenda specified in the Newborns' and Mothers' Health Protection Act of 1996.

Eligibility: 42 CFR Part 51a.3.

Funding Priorities and/or Preferences

A funding preference will be given to institutions of higher learning with extensive experience in early discharge research, linkage with the Secretary's Advisory Committee on Infant Mortality, and published research and recognition in the relevant field.

Review Criteria

Final criteria are included in the application kit.

Estimated Amount of This Competition: $250,000.

Estimated Number of Awards: 1.

Estimated Project Period: 2 to 3 years.

Application Availability: 2/23/00.

To Obtain This Application Kit

CFDA Number: 93.110RT.

Call for Application Kit: 1-877-477-2123 (1-877-HRSA-123).

Application Deadline: 5/1/00.

Projected Award Date: 8/1/00.

The first budget period is expected to be nine months; subsequent budget periods will be 12 months.

Contact Person: Alicia Scott-Wright 301/443-0700 e-mail: ascott-wright@hrsa.gov.

3. Partnership for State Title V MCH Leadership Community Cooperative Agreement Authorization Social Security Act, Title V, 42 U.S.C. 701

Purpose

The purpose of this program is to fund a cooperative agreement with a professional organization representing the State Title V MCH leadership community. The agreement will provide a forum for State Title V MCH leaders concerned with issues related to maternal and child health and involved in sustaining systems of care and providing support to families affected by MCH issues. Specifically, this program is designed to facilitate the dissemination of new information in a format that will be most useful to State Title V MCH leaders when developing MCH policies and programs in the private and public sectors at local, State and national levels. Additionally, this program will facilitate MCHB understanding of State Title V MCH leaders' concerns.

Eligibility: 42 CFR Part 51a.3.

Funding Priorities and/or Preferences

A preference will be given to national membership organizations representing the State Title V MCH Community. Preference will be given to entities clearly demonstrating capacity to represent State Title V MCH Directors and national expertise in the development and dissemination of information relevant to State Title V MCH agencies.

Review Criteria

Final criteria are included in the application kit.

Estimated Amount of This Competition: $1,200,000.

Estimated Number of Awards: 1.

Estimated Project Period: 5 years.

Application Availability: 6/1/00.

To Obtain This Application Kit

CFDA Number: 93.110Q.

Call for Application Kit: 1-877-477-2123 (1-877-HRSA-123).

Application Deadline: 8/1/2000.

Projected Award Date: 9/30/00.

The first budget period is expected to be eleven months; subsequent budget periods will be 12 months.

Contact Person: Kerry Nesseler 301/443-2170 e-mail: knesseler@hrsa.gov.

HIV/AIDS Bureau (HAB)

Grants Management Office: 1-301-443-2280.

The HAB announces the following grant program:

Special Projects of National Significance (SPNS).

“New Competition for Demonstration and Evaluation Models that Advance HIV Service Innovation along the U.S.-Mexico Border”.

Authorization: Section 2691 of the Public Health Service Act, 42 U.S.C. 300ff-10.

Purpose: This initiative is part of the larger HRSA U.S.-Mexico Border Health Program established in August 1996 to more effectively address the severe lack of access to primary health care in this region. It is being undertaken by HAB in conjunction with the Bureau of Primary Health Care (BPHC) and the HRSA Field Offices. One service award will be made in each of the four U.S.-Mexico Border States—Arizona, California, New Mexico, and Texas—for a total of four service awards of approximately $400,000 each per year. A single evaluation award will also be made for the whole four-state program for approximately $200,000 per year. In addition, BPHC will make direct supplemental awards averaging $100,000 per year to Community and Migrant Health Centers (C/MHCs) identified as major participants in the four projects selected by HAB for funding.

Eligibility

Public and nonprofit private entities are eligible to apply. Applicant organizations for each of the four service projects must be located within a 62 mile wide area adjacent to the U.S.-Mexico border in the States of Arizona, California, New Mexico, and Texas. Applicants for the single evaluation project must have experience evaluating the delivery of health services to populations who have difficulty accessing primary health care.

Funding Priorities and/or Preferences

For the single evaluation center, applicants with experience in evaluating access to health care in border areas is preferred.

Review Criteria: Final criteria are included in the application kit.

Estimated Amount of This Competition: Approximately $1,800,000 from HAB.

Estimated Number of Awards: Four service awards; one evaluation award. In addition, BPHC anticipates making one supplemental award to each C/MHC affiliated with the program.

Estimated Project Period: 5 years.

To Obtain This Application Kit

CFDA Number: 93.928.

Call for Application Kit: 1-877-477-2123 (1-877-HRSA-I23).

Application Deadline: 02/15/00.

Projected Award Date: 05/01/00.

Note: Although the application receipt deadline is as soon as February 15, the HAB has publicized the grant offering extensively so that virtually all eligible applicants in the limited geographic area of eligibility have been notified. Application guidance has been sent to all current Ryan White grantees and all BPHC C/MHCs. In addition, HRSA field offices have held community-level meetings in each state concerning this offering, and an announcement has been posted on the HRSA Web site at www.hrsa.dhhs.gov/hab/grant.htm.

Contact person: Steve Young 301/443-7136 e-mail: syoung@hrsa.gov.

[FR Doc. 00-3918 Filed 2-17-00; 8:45 am]

BILLING CODE 4160-15-P